DEPARTMENT OF COMMERCE

Foreign-Trade Zones Board

[Docket 11-2004]

Foreign-Trade Zone 24—Pittston, Pennsylvania; Application for Expansion

An application has been submitted to the Foreign-Trade Zones (FTZ) Board (the Board) by the Eastern Distribution Center, Inc., grantee of Foreign-Trade Zone 24, requesting authority to expand FTZ 24-Site 1 and to include three additional sites in the Pittston, Pennsylvania, area, within the Wilkes-Barre/Scranton Customs port of entry. The application was submitted pursuant to the provisions of the Foreign-Trade Zones Act, as amended (19 U.S.C. 81a-81u), and the regulations of the Board (15 CFR part 400). It was formally filed on March 17, 2004.

FTZ 24 was approved on October 21, 1976 (Board Order 112, 41 FR 47288, 10/28/76). The zone project currently consists of a 42-acre site within the 265-acre Eastern Distribution Center, located midway between Scranton and Wilkes-Barre, adjacent to the Wilkes-Barre/Scranton International Airport. An application is pending with the FTZ Board to expand FTZ 24 to include a site at the Valley View Business Park/Jessup Small Business Center in the Boroughs of Jessup and Archbald, Pennsylvania (Proposed Site 2, Docket 9-2004).

The applicant is now requesting authority to expand existing Site 1 and to include three additional sites in the area: expand Site 1 to include an additional parcel (29 acres) within the Grimes Industrial Park located east of Commerce Road and north of Sathers Road in Pittston Township (listed as Site 2B in the application); Proposed Site 3 (232 acres)—industrial park located west of Interstate 81 and north of Oak Street in Pittston Township (listed as Site 2A in the application); Proposed Site 4 (493 acres)—industrial park located along Interstate 476 south of O'Hara Industrial Park in Jenkins Township (listed as Site 1B in the application); and, Proposed Site 5 (138 acres)—industrial park located north of Saylor Avenue and east of River Road in Jenkins Township (listed as Site 1A in the application). The property is owned by the Mericle Commercial Real Estate Services. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street, NW., Washington, DC 20005; or

2. Submissions via the U.S. Postal Service: Foreign-Trade Zones Board, U.S. Department of Commerce, FCB—Suite 4100W, 1401 Constitution Avenue NW., Washington, DC 20230.

The closing period for their receipt is May 24, 2004. Rebuttal comments in response to material submitted during the foregoing period may be submitted during the subsequent 15-day period to June 7, 2004.

A copy of the application and accompanying exhibits will be available for public inspection at the Office of the Foreign-Trade Zones Board's Executive Secretary at the first address listed above, and at the Office of the Eastern Distribution Center, Inc., 1151 Oak Street, Pittston, PA 18640.

Dated: March 17, 2004.
Dennis Puccinelli,
Executive Secretary.

[FR Doc. 04-6615 Filed 3-23-04; 8:45 am]

BILLING CODE 3510-DS-P